DEPARTMENT OF COMMERCE

Economic Development Administration

Proposed Information Collection; Comment Request; Comprehensive Economic Development Strategies

AGENCY: Economic Development Administration, Department of Commerce.

ACTION: Notice.

SUMMARY: The Economic Development Administration (EDA or the Agency), Department of Commerce, as part of its continuing effort to reduce paperwork and respondent burden, invites the general public and other Federal agencies to comment on a proposed extension of an information collection request approved through September 30, 2018, as required by the Paperwork Reduction Act of 1995 (PRA).

DATES: Written comments must be submitted on or before July 3, 2018.

ADDRESSES: Direct all written comments to Jennifer Jessup, Departmental Paperwork Clearance Officer, Department of Commerce, Room 6616, 14th and Constitution Avenue NW, Washington, DC 20230 (or via email at PRAcomments@doc.gov).

FOR FURTHER INFORMATION, CONTACT: Requests for additional information or copies of the information collection instrument and instructions should be directed to David Ives, Senior Program Analyst, Performance and National Programs Division, Room 71030, Economic Development Administration, 14th and Constitution Avenue NW, Washington, DC 20230 (or via email at dives@eda.gov).

SUPPLEMENTARY INFORMATION:

I. Abstract

The mission of EDA is to lead the federal economic development agenda by promoting innovation and competitiveness, preparing American regions for growth and success in the worldwide economy. EDA accomplishes this mission by helping states, regions, and communities through capacity building, planning, infrastructure, research grants, and strategic initiatives. Further information on EDA's program and grant opportunities can be found at www.eda.gov.

In order to effectively administer and monitor its economic development assistance programs, EDA collects certain information from applications for, and recipients of, EDA investment assistance. The purpose of this notice is to seek comments from the public and other Federal agencies on a request for an extension of an information collected related to a Comprehensive Economic Development Strategy (CEDS). The collection of this information is required to ensure the recipient is complying with EDA's CEDS requirements. A CEDS is required for an eligible applicant to qualify for an EDA investment assistance under its Public Works, Economic Adjustment, and certain planning programs, and is a prerequisite for a region's designation by EDA as an Economic Development District (see 13 CFR 303, 305.2, and 307.2 of EDA's regulations). This information collection is scheduled to expire on September 30, 2018.

II. Method of Collection

The CEDS are collected via both paper and electronic submissions. A CEDS emerges from a continuing planning process developed and driven by a public sector planning organization by engaging a broad-based and diverse set of stakeholders to address the economic problems and potential of a region. The CEDS should include information about how and to what extent stakeholder input and support was solicited. Information on how the planning organization collaborated with its diverse set of stakeholders (including the public sector, private interests, non-profits, educational institutions, and community organizations) in the development of the CEDS should be included. In accordance with the regulations governing the CEDS (see 13 CFR 303.7), a CEDS must contain a summary background, a SWOT Analysis, Strategic Direction/Action Plan, and an Evaluation Framework. In addition, the CEDS must incorporate the concept of economic resilience (i.e., the ability to avoid, withstand, and recover from economic shifts, natural disasters, etc.). EDA is not proposing any changes to the current information collection request.

III. Data

OMB Control Number: 0610-0093.

Form Number(s): None.

Type of Review: Regular submission; revision of a currently approved collection.

Affected Public: Not-for-profit institutions; Federal government; State, local or Tribal government; Business or other for-profit organizations.

Estimated Number of Respondents: 527.

Estimated Time per Response: 480 hours for the initial CEDS for a District organization or other planning organization funded by EDA; 160 hours for the CEDS revision required at least every 5 years from and EDA-funded District or other planning organization; 40 hours per applicant for EDA Public Works or Economic Adjustment Assistance with a project deemed by EDA to merit further consideration that is not located in an EDA-funded District.

Estimated Total Annual Burden Hours: 31,640.

Type of response | Number of responses | Hours per response | Total estimated time (hours)
Initial CEDS | 3 | 480 hours/initial CEDS | 1,440
Revised CEDS | 77 | 160 hours/revised CEDS | 12,320
CEDS Updates/Performance Reports | 385 | 40 hours/report | 15,400
CEDS by applicants not in EDA-funded District | 62 | 40 hours | 2,480
Total |  |  | 31,640

Estimated Total Annual Cost to Public: $0.

IV. Request for Comments

Pursuant to section 3506(c)(2)(A) of the PRA (44 U.S.C. 3501 et seq.), comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and may be included in the request for Office of Management and Budget approval of this information collection; they also will become a matter of public record.

Sheleen Dumas,
Departmental Lead PRA Officer, Office of the Chief Information Officer.

[FR Doc. 2018-09539 Filed 5-3-18; 8:45 am]

BILLING CODE 3510-34-P